DEPARTMENT OF TRANSPORTATION

Federal Aviation Administration

14 CFR Part 71

[Docket No. FAA-2019-0799; Airspace Docket No. 19-AGL-13]

RIN 2120-AA66

Amendment of VHF Omnidirectional Range (VOR) Federal Airway V-71 and Area Navigation Route T-285 Due to the Decommissioning of the Winner, SD, VOR

Correction

In rule document 2020-03280, appearing on pages 10052 through 10053 in the issue of Friday, February 21, 2020 make the following correction.

§ 71.1 [Corrected]

On page 10053, in the table, on the final line, “(Lat. 44°26′24.30″ N, long. 98°18′39.89″ W)” should read “(Lat. 44°26′24.30″ N, long. 98°18′39.89″ W)”.

[FR Doc. C1-2020-03280 Filed 2-27-20; 8:45 am]

BILLING CODE 1301-00-D